CONSUMER PRODUCT SAFETY COMMISSION

Commission Agenda, Priorities and Strategic Plan; Public Hearing

AGENCY: Consumer Product Safety Commission.

ACTION: Notice of public hearing.

SUMMARY: The Commission will conduct a public hearing to receive views from all interested parties about its agenda and priorities for Commission attention during fiscal year 2008, which begins October 1, 2007, and about its current strategic plan, to be revised for submission to Congress September 30, 2006, pursuant to the Government Performance and Results Act (GPRA). Because of resource limitations, staff is proposing to delete the “Keeping Children Safe from Drowning” goal in the current 2003 Strategic Plan, but will continue activities at the project level. Participation by members of the public is invited. Written comments and oral presentations concerning the Commission's agenda and priorities for fiscal year 2008 and the strategic plan will become part of the public record.

DATES: The hearing will begin at 10 a.m. on July 11, 2006. Written comments, requests from members of the public desiring to make oral presentations, and the written text of any oral presentations must be received by the Office of the Secretary not later than June 27, 2006.

ADDRESSES: The hearing will be in room 420 of the Bethesda Towers Building, 4330 East West Highway, Bethesda, Maryland 20814. Written comments, requests to make oral presentations, and texts of oral presentations should be captioned “Agenda, Priorities and Strategic Plan” and e-mailed to cpsc-os@cpsc.gov, or mailed or delivered to the Office of the Secretary, Consumer Product Safety Commission, 4330 East West Highway, Bethesda, Maryland 20814, no later than June 27, 2006.

FOR FURTHER INFORMATION CONTACT: For information about the hearing, a copy of the current strategic plan or to request an opportunity to make an oral presentation, e-mail, call or write Todd A. Stevenson, Office of the Secretary, Consumer Product Safety Commission, 4330 East West Highway, Bethesda, Maryland 20814; e-mail cpsc-os@cpsc.gov; telephone (301) 504-7923; facsimile (301) 504-0127. An electronic copy of the annotated 2003 Strategic Plan can be found at http://www.cpsc.gov/cpscpub/pubs/reports/2003strategicAnnotated.pdf.

SUPPLEMENTARY INFORMATION: Section 4(j) of the Consumer Product Safety Act (CPSA) (15 U.S.C. 2053(j)) requires the Commission to establish an agenda for action under the laws it administers, and, to the extent feasible, to select priorities for action at least 30 days before the beginning of each fiscal year. Section 4(j) of the CPSA provides further that before establishing its agenda and priorities, the Commission conduct a public hearing and provide an opportunity for the submission of comments. In addition section 306(d) of the Government Performance and Results Act (GPRA) (5 U.S.C. 306(d)) requires the Commission to seek comments from interested parties as part of the process of revising the current CPSC strategic plan. The strategic plan is a GPRA requirement. The revised plan will provide an overall guide to the formulation of future agency actions and budget requests. Because of resource limitations, staff is proposing to delete the “Keeping Children Safe from Drowning” goal in the current, 2003 Strategic Plan. Work in this area would continue at the project level with expanded public information efforts, such as partnerships with child safety organizations, to reduce child drownings. The Commission may also consider other changes as it updates the current plan.

The Office of Management and Budget requires all Federal agencies to submit their budget requests 13 months before the beginning of each fiscal year. The Commission is formulating its budget request for fiscal year 2008, which begins on October 1, 2007. This budget request must reflect the contents of the agency's strategic plan developed under GPRA.

The Commission will conduct a public hearing on July 11, 2006 to receive comments from the public concerning its strategic plan, and agenda and priorities for fiscal year 2008. The Commissioners desire to obtain the views of a wide range of interested persons including consumers; manufacturers, importers, distributors, and retailers of consumer products; members of the academic community; consumer advocates; and health and safety officers of state and local governments.

The Commission is charged by Congress with protecting the public from unreasonable risks of injury associated with consumer products. The Commission administers and enforces the Consumer Product Safety Act (15 U.S.C. 2051 et seq.); the Federal Hazardous Substances Act (15 U.S.C. 1261 et seq.); the Flammable Fabrics Act (15 U.S.C. 1191 et seq.); the Poison Prevention Packaging Act (15 U.S.C. 1471 et seq.); and the Refrigerator Safety Act (15 U.S.C. 1211 et seq.). Standards and regulations issued under provisions of those statutes are codified in the Code of Federal Regulations, title 16, chapter II.

While the Commission has broad jurisdiction over products used by consumers, its staff and budget are limited. Section 4(j) of the CPSA directs the Commission to establish an agenda for action each fiscal year and, if feasible, to select from that agenda some of those projects for priority attention. These priorities are reflected in the strategic plan developed under GPRA.

Persons who desire to make oral presentations at the hearing on July 11, 2006, should e-mail, call or write Todd A. Stevenson, Office of the Secretary, Consumer Product Safety Commission, 4330 East West Highway, Bethesda, Maryland 20814, e-mail cpsc-os@cpsc.gov, telephone (301) 504-7923, facsimile (301) 504-0127 not later than June 27, 2006. Presentations should be limited to approximately ten minutes.

Persons desiring to make presentations must submit the text of their presentations to the Office of the Secretary not later than June 27, 2006. The Commission reserves the right to impose further time limitations on all presentations and further restrictions to avoid duplication of presentations. The hearing will begin at 10 a.m. on July 11, 2006, and will conclude the same day. Written comments on the Commission's current strategic plan, and agenda and priorities for fiscal year 2008, should be received in the Office of the Secretary not later than July 5, 2006. Persons who desire a hard copy of the current strategic plan may contact the Office of the Secretary, Consumer Product Safety Commission, 4330 East West Highway, Bethesda, MD 20814, e-mail cpsc-os@cpsc.gov, telephone (301) 504-7923, facsimile (301) 504-0127. An electronic copy of the annotated 2003 Strategic Plan can be found at http://www.cpsc.gov/cpscpub/pubs/reports/2003strategicAnnotated.pdf.

Dated: June 1, 2006.
Todd A. Stevenson,
Secretary, Consumer Product Safety Commission.

[FR Doc. E6-8764 Filed 6-6-06; 8:45 am]

BILLING CODE 6355-01-P